DEPARTMENT OF AGRICULTURE

Commodity Credit Corporation

Farm Service Agency; Request for Approval of a New Information Collection

AGENCY: Commodity Credit Corporation (CCC), Farm Service Agency (FSA), USDA.

ACTION: Proposed information collection and request for comments.

SUMMARY: In accordance with the Paperwork Reduction Act of 1995, this notice announces the Farm Service Agency's (FSA) and Commodity Credit Corporation's (CCC) intention to request a new information collection. The first information collection will be used in support of the Debt Collection Improvement Act of 1996, which requires disbursements to be made via an electronic funds transfer (EFT) mechanism unless the payment recipient has a waiver from the Secretary of Treasury. The Secretary of Treasury has granted a waiver for any individual for whom payment by an EFT mechanism would create a hardship. CCC and FSA have developed a waiver form that may be filed by a payment recipient for whom payment by an EFT mechanism would create a hardship. The second information collection will be used when necessary to request a replacement check for a check that was not received by the intended recipient. The information collection provides an undertaking of indemnity as required by Government Accounting Office standards.

DATES: Comments on this notice must be received on or before April 16, 2002 to be assured consideration.

FOR FURTHER INFORMATION CONTACT: Deborah Simmons, Financial Specialist, USDA, FSA, FMD, STOP 0581, 1400 Independence Avenue, SW, Washington, DC 20250-0581; telephone (703) 305-1309; e-mail Debbie_Barker@wdc.fsa.usda.gov; or facsimile (703) 305-1144.

SUPPLEMENTARY INFORMATION: Title: Electronic Funds Transfer (EFT) Hardship Waiver Request.

OMB Control Number: 0560-NEW.

Type of Request: Approval of a new information collection.

Abstract: The Debt Collection Improvement Act of 1996 requires that all Federal payments other than payments under the Internal Revenue Code of 1986, must be made by an EFT mechanism effective January 1, 1999. In 31 CFR 208, the Secretary of Treasury granted a waiver of the EFT requirement to any individual for whom payment by an EFT mechanism would create a hardship. A Federal agency is required to send a disclosure letter regarding the EFT requirement to any individual that continues to receive payment by paper check, unless the individual has invoked a self-certified hardship waiver.

Individuals that wish to invoke a self-certified hardship waiver of the EFT requirement must provide specific data related to the individual. The form included in this information collection package would require the full name and address of the requestor, a signature, and the date signed. The completed form must be returned to an FSA office. Without collection of this information, FSA must continue to mail a disclosure letter regarding the EFT requirement with every paper check issued to the individual.

Estimate of Respondent Burden: Public reporting burden for this collection of information is estimated to average 5 minutes per response.

Respondents: Individuals requesting a self-certified hardship waiver of the EFT requirement.

Estimated Number of Respondents: 100,000.

Estimated Number of Annual Responses per Respondent: 1.

Estimated Total Annual Burden on Respondents: 20 minutes.

SUPPLEMENTARY INFORMATION:

Title: Undertaking of Indemnity.

OMB Control Number: 0560-NEW.

Type of Request: Approval of a new information collection.

Abstract: CCC disburses funds using a CCC check or a commodity certificate when payment is not disbursed through an EFT mechanism. When an issued CCC check or commodity certificate is not received by the intended recipient, or is received and later becomes lost, stolen or destroyed, the intended recipient may sign an undertaking of indemnity to request that the CCC check or commodity check be replaced.

Estimate of Respondent Burden: Public reporting burden for this collection of information is estimated to average 30 minutes per response.

Respondents: Individuals, partnerships or corporations.

Estimated Number of Respondents: 1,000.

Estimated Number of Annual Responses per Respondent: 1.

Estimated Total Annual Burden on Respondents: 45 minutes.

Comments are sought on these requirements including: (a) Whether the collection of information is necessary for the proper performance of the functions of the agency, including whether the information will have practical utility; (b) the accuracy of the agency's estimate of burden, including the validity of the methodology and assumptions used; (c) ways to enhance the quality, utility, and clarity of the information collected; and (d) ways to minimize the burden of the collection of the information on those who are to respond, including through the use of appropriate automated, electronic, mechanical, or other technological collection techniques or other forms of information technology. Comments may be sent to the Desk Officer for Agriculture, Office in Information and Regulatory Affairs, Office of Management and Budget, Washington, DC 20503, and to Deborah Simmons, Financial Specialist, USDA-FSA-FMD, STOP 0581, 1400 Independence Avenue, SW, Washington, DC 20250-0581; telephone (703) 305-1309; e-mail Debbie_Barker@wdc.fsa.usda.gov; or facsimile (703) 305-1144. Copies of the information collection may be obtained from Ms. Simmons at the above address.

All responses to this notice will be summarized and included in the request for OMB approval. All comments will also become a matter of public record.

Signed at Washington, DC, on February 1, 2002.
Larry Walker,
Acting Administrator, Farm Service Agency and Acting Executive Vice President, Commodity Credit Corporation.

[FR Doc. 02-3708 Filed 2-14-02; 8:45 am]

BILLING CODE 3410-05-P